DEPARTMENT OF JUSTICE

Drug Enforcement Administration

Manufacturer of Controlled Substances; Notice of Registration

By Notice dated May 18, 2004, and published in the Federal Register on June 3, 2004, (69 FR 31409-31410), Accustandard Inc., 125 Market Street, New Haven, Connecticut 06513, made application by renewal to the Drug Enforcement Administration (DEA) for registration as a bulk manufacturer of the basic classes of controlled substances listed below:

Drug | Schedule
Cathinone (1235) | I
Methcathinone (1237) | I
N-Ethylamphetamine (1475) | I
N, N-Dimethylamphetamine (1480) | I
Fenethylline (1503) | I
Aminorex (1585) | I
4-Methylaminorex (cis isomer) (1590) | I
Gamma hydroxybutyric acid (2010) | I
Methaqualione (2565) | I
Mecloqualone (2572) | I
Alpha-Ethyltryptamine (7249) | I
Ibogaine (7260) | I
Lysergic acid diethylamide (7315) | I
Tetrahydrocannabinols (7370) | I
Mescaline (7381) | I
3,4,5-Trimethoxyamphetamine (7390) | I
4-Bromo-2, 5-dimethoxyamphetamine (7391) | I
4-Bromo-2, 5-dimethoxyamphetamine (7392) | I
4-Methyl-2, 5-dimethoxyamphetamine (7395) | I
2, 5-Dimethoxyamphetamine (7396) | I
2, 5-Dimethoxy-4-ethylamphetamine (7399) | I
3,4-Methylenedioxyamphetamine (7400) | I
5-Methoxy-3, 4-methylenedioxyamphetamine (7401) | I
N-Hydroxy-3, 4-methylenedioxyamphetamine (7402) | I
3,4-Methylenedioxy-N-ethylamphetamine (7404) | I
3,4-Methylenedioxymethamphetamine (7405) | I
4-Methoxyamphetamine (7411) | I
Bufotenine (7433) | I
Diethyltryptamine (7434) | I
Dimethyltryptamine (7435) | I
Psilocybin (7437) | I
Psilocyn (7438) | I
N-Ethyl-1-phenylcyclohexylamine (7455) | I
1-(1-Phenylcyclohexyl) pyrrolidine (PCPY) (7458) | I
Thiophene Analog of Phencyclidine (7470) | I
1-(1-(2-Thienly) Cyclohexyl) Pyrrolidine (7473) | I
N-Ethyl-3-Piperidyl Benzilate (7482) | I
N-Methyl-3-Piperidyl Benzilate (7484) | I
Acetyldihydrocodeine (9051) | I
Benzylmorphine (9052) | I
Codeine-N-Oxide (9053) | I
Cyprenorphine (9054) | I
Desomorphine (9055) | I
Etorphine (except Hydrochloride salt) (9056) | I
Codeine Methylbromide (9070) | I
Dihydromorphine (9145) | I
Difenoxin (9168) | I
Heroin (9200) | I
Hydromorphinol (9301) | I
Methyldesorphine (9302) | I
Methyldihydromorphine (9304) | I
Morphine Methybromide (9305) | I
Morphine Methylsulfonate (9306) | I
Morphine-N-Oxide (9307) | I
Myrophine (9308) | I
Nicocodeine (9309) | I
Nicomorphine (9312) | I
Normorphine (9313) | I
Pholcodine (9314) | I
Thebacon (9315) | I
Acetorphine (9319) | I
Drotebanol (9335) | I
Acetylmethadol (9601) | I
Allylprodine (9602) | I
Alphacetylmethadol except LAAM (9603) | I
Alphameprodine (9604) | I
Alphamethadol (9605) | I
Benzethidine (9606) | I
Betacetymethadol (9607) | I
Betameprodine (9608) | I
Betamethadol (9609) | I
Betaprodine (9611) | I
Clonitazene (9612) | I
Dextromoramide (9613) | I
Diampromide (9615) | I
Diethylthiambutene (9616) | I
Dimenoxadol (9617) | I
Dimepheptanol (9618) | I
Dimethylthiambutene (9619) | I
Dioxaphetylbutyrate (9621) | I
Dipipanone (9622) | I
Ethylmehtylthiambutene (9623) | I
Etonitazene (9624) | I
Furethidine (9626) | I
Hydroxypethidine (9627) | I
Ketobemidone (9628) | I
Morpheridine (9632) | I
Noracymethadol (9633) | I
Norlevorphanol (9634) | I
Normethadone (9635) | I
Norpipanone (9636) | I
Phenadoxone (9637) | I
Phenampromide (9638) | I
Phenoperidine (9641) | I
Piritramide (9642) | I
Proheptazine (9643) | I
Properidine (9644) | I
Phenomorphan (9647) | I
Propiram (9649) | I
1-Methyl-4-phenyl-4-propionoxypiperidine (9661) | I
1-(2-Phenylethyl)-4-phenyl-4-acetoxypiperidine (9663) | I
Tilidine (9750) | I
Para-Fluorofentanyl (9812) | I
3-Methylfentanyl (9813) | I
Alpha-Methylfentanyl (9814) | I
Acetyl-alpha-methlfentanyl (9815) | I
Benzylfentanyl (9818) | I
Beta-Hydroxyfentanyl (9830) | I
Beta-Hydroxy-3-methylfentanyl (9831) | I
Alpha-Methylthiofentanyl (9832) | I
3-Methylthiofentanyl (9833) | I
Thenylfentanyl (9834) | I
Thiofentanyl (9835) | I
Amphetamine (1100) | II
Methamphetamine (1105) | II
Phenmetrazine (1631) | II
Methylphenidate (1724) | II
Amobarbital (2125) | II
Pentobarbital (2270) | II
Secobarbital (2315) | II
Glutethimide (2250) | II
Nabilone (7379) | II
1-Phenylcylohexylamine (7460) | II
Phencyclidine (7471) | II
Phenylacetone (8501) | II
1-Piperidinocyclohexanecarbonitrile (8603) | II
Alphaprodine (9010) | II
Anileridine (9020) | II
Cocaine (9041) | II
Codeine (9050) | II
Diprenorphine (9058) | II
Etorphine HCL (9059) | II
Dihydrocodeine (9120) | II
Oxycodone (9143) | II
Hydromorphone (9150) | II
Diphenoxylate (9170) | II
Benzoylecgonine (9180) | II
Ecgonine (9180) | II
Ethylmorphine (9190) | II
Hydrocodone (9193) | II
Levomethorphan (9210) | II
Levorphanol (9220) | II
Isomethadone (9226) | II
Meperidine (9230) | II
Meperidine intermediate-A (9232) | II
Meperidine intermediate-B (9233) | II
Meperidine intermediate-C (9234) | II
Metazocine (9240) | II
Methadone (9250) | II
Methadone intermediate (9254) | II
Metopon (9260) | II
Morphine (9300) | II
Thebaine (9333) | II
Dihydroetorphine (9334) | II
Opium, raw (9600) | II
Opium tincture (9630) | II
Opium powdered (9639) | II
Levo-alphacetylmethadol (9648) | II
Oxymorphone (9652) | II
Phenazocine (9715) | II
Piminodine (9730) | II
Racemethorphan (9732) | II
Racemorphan (9733) | II
Alfentanil (9737) | II
Remifentanil (9739) | II
Sufentanil (9740) | II
Carfentanil (9743) | II
Bezitramide (9800) | II
Fentanyl (9801) | II
Moramide-intermediate (9802) | II

The company plans to manufacture small quantities of bulk material for use in reference standards.

No comments or objections have been received. DEA has considered the factors in 21 U.S.C. 823(a) and determined that the registration of Accustandard Inc. to manufacture the listed basic classes of controlled substances is consistent with the public interest at this time. DEA has investigated Accustandand Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic classes of controlled substances listed.

Dated: September 16, 2004
William J. Walker,
Deputy Assistant Administrator, Office of Diversion Control, Drug Enforcement Administration.

[FR Doc. 04-21955 Filed 9-29-04; 8:45 am]

BILLING CODE 4410-09-M